INTERNATIONAL TRADE COMMISSION

[Investigation 332-444]

Oil and Gas Field Services: Impediments to Trade and Prospects for Liberalization

AGENCY: International Trade Commission.

ACTION: Institution of investigation and scheduling of public hearing.

EFFECTIVE DATE: July 8, 2002.

SUMMARY: Following receipt of a request on June 18, 2002, from the United States Trade Representative (USTR), the Commission instituted investigation No. 332-444, Oil and Gas Field Services: Impediments to Trade and Prospects for Liberalization, under section 332(g) of the Tariff Act of 1930 (19 U.S.C. 1332(g)).

FOR FURTHER INFORMATION CONTACT: Information specific to this investigation may be obtained from Joann Tortorice, Project Leader (202-205-3032; jtortorice@usitc.gov), Amanda Horan, Deputy Project Leader (202-205-3459; ahoran@usitc.gov), or Richard Brown, Chief, Services and Investment Division (202-205-3438; rbrown@usitc.gov), Office of Industries, U.S. International Trade Commission, Washington, DC, 20436. For information on the legal aspects of this investigation, contact William Gearhart of the Office of the General Counsel (202-205-3091; wgearhart@usitc.gov). Hearing impaired individuals are advised that information on this matter can be obtained by contacting the TDD terminal on (202) 205-1810.

Background: As requested by the USTR, in its report the Commission will (1) describe the various activities involved in the provision of oil and gas field services; (2) describe the nature of trade in oil and gas field services; and (3) examine the extent of impediments to trade and potential benefits of trade liberalization. Since oil and gas field services are conducted in a large number of countries, USTR has requested that the Commission's study focus on issues that could be relevant multilaterally.

For the purpose of this study, oil and gas field services are broadly defined to include evaluation and exploration activities; drilling activities; and well development and completion activities. The letter follows similar requests made by the USTR in November 1999 and February 2001 for the Commission to conduct investigations on electric power services and natural gas services in selected foreign markets. The Commission submitted its report on electric power services to the USTR on November 23, 2000, and on natural gas services on October 16, 2001. Copies of these reports may be obtained by contacting the Office of the Secretary at 202-205-2000 or by accessing the USITC Internet server ww.usitc.gov). The USTR asked that the Commission furnish its report by March 18, 2003, and that the Commission make the report available to the public in its entirety.

Public Hearing: A public hearing in connection with the investigation will be held at the U.S. International Trade Commission Building, 500 E Street SW., Washington, DC, beginning at 9:30 a.m. on October 1, 2002. All persons shall have the right to appear, by counsel or in person, to present information and to be heard. Requests to appear at the public hearing should be filed with the Secretary, United States International Trade Commission, 500 E Street SW., Washington, DC 20436, no later than 5:15 p.m., September 17, 2002. Any prehearing briefs (original and 14 copies) should be filed not later than 5:15 p.m., September 19, 2002; the deadline for filing post-hearing briefs or statements is 5:15 p.m., October 22, 2002. In the event that, as of the close of business on September 17, 2002, no witnesses are scheduled to appear at the hearing, the hearing will be canceled. Any person interested in attending the hearing as an observer or non-participant may call the Secretary of the Commission (202-205-1806) after September 17, 2002, for information concerning whether the hearing will be held.

Written Submissions: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section § 201.6 of the Commission's Rules of Practice and Procedure (19 CFR 201.6). All written submissions, except for confidential business information, will be made available in the Office of the Secretary to the Commission for inspection by interested parties. The Commission will not include any confidential business information in the report it sends to the USTR. To be assured of consideration by the Commission, written statements relating to the Commission's report should be submitted to the Commission at the earliest practical date and should be received no later than the close of business on October 22, 2002. All submissions should be addressed to the Secretary, United States International Trade Commission, 500 E Street SW., Washington, DC 20436. The Commission's rules do not authorize filing submissions with the Secretary by facsimile or electronic means. Persons with mobility impairments who will need special assistance in gaining access to the Commission should contact the Office of the Secretary at 202-205-2000. General information concerning the Commission may also be obtained by accessing its Internet server (http://www.usitc.gov).

List of Subjects

WTO, GATS, Oil and gas field services.

Issued: July 9, 2002.
By order of the Commission.
Marilyn R. Abbott,
Secretary to the Commission.

[FR Doc. 02-17644 Filed 7-12-02; 8:45 am]

BILLING CODE 7020-02-P